DEPARTMENT OF VETERANS AFFAIRS

Enhanced-Use Lease (EUL) of Department of Veterans Affairs (VA) Real Property for a Mixed-Use Development Including a Permanent Housing Facility in Lincoln, NE

AGENCY: Department of Veterans Affairs.

ACTION: Notice of intent to enter into an Enhanced-Use Lease (EUL).

SUMMARY: The Secretary of VA intends to enter into an EUL on an approximately 59.4-acre parcel of land which includes 8 historic structures at the VA Nebraska-Western Iowa Health Care System (Lincoln Community-Based Outpatient Clinic) in Lincoln, Nebraska. As consideration for the lease, the lessee will be required to construct, renovate, operate, and maintain a mixed-use development. A permanent housing facility will be included in the development, which will offer preference and priority placement for Veterans and their families, and a supportive services program.

FOR FURTHER INFORMATION CONTACT: Edward Bradley, Office of Asset Enterprise Management (044), Department of Veterans Affairs, 810 Vermont Avenue NW, Washington, DC 20420, (202) 461-7778 (this is not a toll-free number).

SUPPLEMENTARY INFORMATION: Title 38 U.S.C. 8161 et seq. states that the Secretary may enter into an enhanced-use lease if he determines that implementation of a business plan proposed by the Under Secretary for Health for applying the consideration under such a lease for the provision of medical care and services would result in a demonstrable improvement of services to eligible Veterans in the geographic service-delivery area within which the property is located. This project meets this requirement.

Approved: November 14, 2011.
Eric K. Shinseki,
Secretary of Veterans Affairs.

[FR Doc. 2011-30026 Filed 11-18-11; 8:45 am]

BILLING CODE 8320-01-P